DEPARTMENT OF THE INTERIOR

National Park Service

[NPS-WASO-EQD-SSB-22271; PPAKGAARC6, PPMPRLE1Z.LS0000 (166)]

Information Collection Request: National Park Service Centennial National Household Survey

AGENCY: National Park Service, Interior.

ACTION: Notice; request for comments.

SUMMARY: We (National Park Service, NPS) have sent an Information Collection Request (ICR) to OMB for review and approval. We summarize the ICR below and describe the nature of the collection and the estimated annual burden. We may not conduct or sponsor and a person is not required to respond to a collection of information unless it displays a currently valid OMB Control Number.

DATES: To ensure that we are able to consider your comments on this ICR, we must receive them by November 30, 2016.

ADDRESSES: Please direct all written comments on this ICR directly to the Office of Management and Budget (OMB) Office of Information and Regulatory Affairs, Attention: Desk Officer for the Department of the Interior, to OIRA_Submission@omb.eop.gov (email) or 202-395-5806 (fax); and identify your submission as 1024-0254. Please also send a copy of your comments to Phadrea Ponds, Information Collection Coordinator, National Park Service, 1201 Oakridge Drive, Fort Collins, CO 80525 (mail); or phadrea_ponds@nps.gov (email). Please reference Information Collection 1024-0254 in the subject line. You may also access this ICR at www.reginfo.gov.

FOR FURTHER INFORMATION CONTACT: Bret Meldrum, Chief Social Science Program, National Park Service, 1201 Oakridge Drive, Fort Collins, CO 80525 (mail); or bret_meldrum@nps.gov (email). Please reference Information Collection 1024-0254 in the subject line.

SUPPLEMENTARY INFORMATION:

I. Abstract

2016 marks the 100th anniversary of the National Park Service (NPS)—a defining moment that offers an opportunity to reflect on and celebrate our accomplishments as we move forward into a new century of stewardship and engagement. As we prepare for our centennial anniversary, discussions concerning the relevancy of the National Parks have ignited the need for a third iteration of the NPS Comprehensive Survey of the American Public. This survey will include questions from the original surveys as well as updated questions that can be used to provide views from a national audience concerning the current relevancy of the NPS that would otherwise be unavailable.

This request is to reinstate OMB Control Number 1024-0254 in order to pretest the survey and collection methods before we ask OMB to review for the consideration of approval the final version of the survey instrument. The new content is sufficiently different enough to necessitate this request to pretest question, response choice wording, and survey length before requesting approval of the final survey. The purpose and intent of the final survey will be measure the awareness, engagement, values, and preferences of both visitors and non-visitors. This information will be used to assess the relevancy of NPS as well as to assess change over time, which in turn will be used to evaluate the effectiveness of NPS efforts to increase its relevancy.

II. Data

OMB Control Number: 1024-0254.

Title: National Park Service Centennial National Household Survey.

Type of Request: Reinstatement with change to a previously approved collection.

Affected Public: Individuals and households.

Respondent Obligation: Voluntary.

Frequency of Collection: One time.

Estimated Number of Annual Responses: 120.

Annual Burden Hours: 54 hours.

Estimated Annual Reporting and Recordkeeping “Non-Hour Cost”: None.

III. Comments

A notice was published in the Federal Register (80 FR 80384) on December 24, 2015, stating that we intended to submit an information collection OMB approval of the NPS Comprehensive Survey of the American Public. In this notice, we solicited public comment for 60 days ending February 22, 2016. We did not receive any comments in response to that notice that required changes to the collection instruments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: October 26, 2016.
Madonna L. Baucum,
Information Collection Clearance Officer, National Park Service.

[FR Doc. 2016-26151 Filed 10-28-16; 8:45 am]

BILLING CODE 4310-EH-P